Title 3—

The President

Proclamation 7594 of September 16, 2002

Citizenship Day and Constitution Week, 2002

By the President of the United States of America

A Proclamation

We the people of the United States, in order to form a more perfect Union, establish Justice, insure domestic Tranquility, provide for the common defense, promote the general Welfare, and secure the Blessings of Liberty to ourselves and our Posterity, do ordain and establish this Constitution for the United States of America.

With these words, written more than 200 years ago, our Forefathers laid the foundations for a great Nation, adopting a Constitution that has since proven to be an enduring and true guide for American government. The Constitution's powerful framework for establishing and preserving liberty, justice, and opportunity has enabled us to prosper as a Nation and thrive as a people through more than two centuries of political change, social transformation, and economic challenge.

The Founders secured the principles expressed in the Declaration of Independence by establishing a government that derives its power from the consent of the American people. The government established by the Constitution formed a remarkably resilient structure, balancing necessary authority with inherent freedoms, national unity with individual rights, and Federal interests with State powers. In setting this foundation, the Founders also recognized the potential for necessary change. They included a constitutional amendment process, which has proven to be a vitally important mechanism for achieving equality and fairness for all our citizens.

Our Constitution is sustained by Americans who daily defend the principles of democracy and freedom. We understand that with great privileges come great responsibilities. Citizenship not only involves a commitment to our Nation but also to our neighbors and those in need. Over the past year, we have seen many outstanding examples of selfless sacrifice, courageous compassion, and true generosity. We remain committed to building a culture of service and responsibility that inspires citizens to reach out to the needy, take leadership in improving our communities, and participate fully in our democratic process.

Today, the United States stands as a beacon of democracy and tolerance, inviting the nations of the world to pursue justice, provide freedom, and protect liberty for their people. As we face the challenges of a new era, we remain resolved and vigilant in the defense of life and liberty against tyranny and terror. Drawing strength and guidance from our Constitution, we will work to ensure that the blessings of American liberty endure and extend for generations to come.

In remembrance of the signing of the Constitution and in recognition of the Americans who strive to uphold the duties and responsibilities of citizenship, the Congress, by joint resolution of February 29, 1952 (36 U.S.C. 106, as amended), designated September 17 as “Citizenship Day,” and by joint resolution of August 2, 1956 (36 U.S.C. 108, as amended), requested that the President proclaim the week beginning September 17 and ending September 23 of each year as “Constitution Week.”

NOW, THEREFORE, I, GEORGE W. BUSH, President of the United States of America, do hereby proclaim September 17, 2002, as Citizenship Day and September 17 through September 23, 2002, as Constitution Week. I encourage Federal, State, and local officials, as well as leaders of civic, social, and educational organizations, to conduct ceremonies and programs that celebrate our Constitution and reaffirm our commitment as citizens of our great Nation.

IN WITNESS WHEREOF, I have hereunto set my hand this sixteenth day of September, in the year of our Lord two thousand two, and of the Independence of the United States of America the two hundred and twenty-seventh.

B

[FR Doc. 02-24158

Filed 9-19-02; 8:45 am]

Billing code 3195-01-P